NATIONAL SCIENCE FOUNDATION

Sunshine Act Meetings; Notice; National Science Board

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date And Time: Thursday, February 8, 2007, at 10:30 a.m.

Place: Oregon State University, Corvallis, Oregon (see below for meeting rooms and http://oregonstate.edu/cw_tools/campusmap/ for a campus map).

Status: Some portions open, some portions closed.

Open Sessions

10:30 a.m.-10:45 a.m.

11 a.m.-11:30 a.m.

11:45 a.m.-12:15 p.m.

12:15 p.m.-1 p.m.

2:20 p.m.-3:50 p.m.

Closed Sessions

10:45 a.m.-11 a.m.

11:30 a.m.-11:45 a.m.

2 p.m.-2:10 p.m.

2:10 p.m.-2:20 p.m.

Agency Contact: Dr. Robert E Webber, rwebber@nsf.gov, (703) 292-7000, http://www.nsf.gov/nsb/.

Matters To Be Discussed:

Committee on Strategy and Budget (CH2M HILL Alumni Center, Room 111A/B)

Open Session (10:30 a.m.-10:45 a.m.)

• Approval of November 30, 2006 CSB Minutes.

• Committee Chairman's Remarks.

• Status of NSF FY 2007 and FY 2008 Budget Requests.

Closed Session (10:45 a.m.-11 a.m.)

• Impact of FY 2007 NSF budget appropriation on development of future NSF budgets.

Committee on Audit and Oversight (CH2M HILL Alumni Center, Room 111A/B)

Open Session (11 a.m.-11:30 a.m.)

• Approval of Minutes of November, 2006 Meeting.

• Chairman's Remarks.

• NSF Report on its Corrective Action Plan for Reportable Conditions in the FY2006 Financial Statement.

• OIG comments on the Corrective Action Plan.

• Chairman's Closing Remarks.

Closed Session (11:30 a.m.-11:45 a.m.)

• Update on ongoing investigation.

Committee on Programs and Plans (CH2M HILL Alumni Center, Room 111A/B)

Open Session (11:45 a.m.-12:15 p.m.)

• Approval of Minutes.

• Committee Chairman's Remarks.

• Task Force on Transformative Research Draft Report.

Committee on Education and Human Resources (CH2M HILL Alumni Center, Room 111A/B)

Open Session (12:15 p.m.-1 p.m.)

• Approval of November 2006 Minutes.

• Chairman's Remarks.

• Discussion of topics for future activities.

Plenary Executive Closed (Reser Stadium, Club Level, 2 p.m.-2:10 p.m.)

• Approval of November 2006 Minutes.

• Approval of Honorary Award Recipients.

Plenary Closed (Reser Stadium, Club Level, 2:10 p.m.-2:20 p.m.)

• Approval of November 2006 Minutes.

• Closed Committee Reports.

Plenary Open (Reser Stadium, Club Level, 2:20 p.m.-3:50 p.m.)

• Approval of November 2006 Minutes.

• Resolution to Close March 2007 Meeting.

• Chairman's Report.

• NSB Discussion: NSB Commission on 21st Century Education in Science, Technology, Engineering, and Mathematics.

• Director's Report.

• Open Committee Reports.

Michael P. Crosby,
Executive Officer and NSB Office Director.

[FR Doc. E7-1339 Filed 1-26-07; 8:45 am]

BILLING CODE 7555-01-P